DEPARTMENT OF THE INTERIOR

Fish and Wildlife Service

[FWS-R8-R-2009-N160; 80230-1265-0000-S3]

Humboldt Bay National Wildlife Refuge Complex, Humboldt and Del Norte Counties, CA

AGENCY: Fish and Wildlife Service, Interior.

ACTION: Notice of availability; final comprehensive conservation plan/final environmental assessment and finding of no significant impact.

SUMMARY: We, the U.S. Fish and Wildlife Service (Service), announce the availability of the final Comprehensive Conservation Plan/Final Environmental Assessment (CCP/EA) and Finding of No Significant Impact (FONSI) for Humboldt Bay National Wildlife Refuge Complex. The Humboldt Bay National Wildlife Refuge Complex is composed of Humboldt Bay National Wildlife Refuge (NWR) and Castle Rock NWR. The CCP, prepared under the National Wildlife Refuge System Improvement Act of 1997, and in accordance with the National Environmental Policy Act of 1969, describes how the Service will manage the Refuges for the next 15 years.

DATES: The CCP/EA and FONSI are available now. The FONSI was signed on September 24, 2009. Implementation of the CCP may begin immediately.

ADDRESSES: You may view or obtain copies of the final CCP and FONSI/EA by any of the following methods. You may request a hard copy or CD-ROM.

Agency Web Site: Download a copy of the document(s) at http://www.fws.gov/humboldtbay/ccp.html.

E-mail: fw8plancomments@fws.gov. Include “Humboldt Bay CCP” in the subject line.

Mail: U.S. Fish and Wildlife Service, Attn: Sandy Osborn, Refuge Planner, 2800 Cottage Way, W-1832, Sacramento, CA 95825-1846.

In-Person Viewing or Pickup: Call 707-733-5406 to make an appointment during regular business hours at Humboldt Bay National Wildlife Refuge Complex, 1020 Ranch Road, Loleta, CA 95551-9633.

Local Library or Libraries: The document(s) are also available for review at the libraries listed under SUPPLEMENTARY INFORMATION.

FOR FURTHER INFORMATION CONTACT: Eric T. Nelson, Project Leader, Humboldt Bay National Wildlife Refuge Complex, P.O. Box 576, Loleta, CA 95551-9633, phone (707) 733-5406 or Sandy Osborn, Refuge Planner, U.S. Fish and Wildlife Service, 2800 Cottage Way, W-1832, Sacramento, CA, 95825, phone (916) 414-6503.

SUPPLEMENTARY INFORMATION:

Background

Humboldt Bay NWR is located on Humboldt Bay on California's north coast near Eureka and Arcata. In 1971, the Humboldt Bay NWR was established to conserve coastal habitats for a great diversity of animals and plants, especially migratory birds. The Refuge Complex also includes Castle Rock NWR, a 14-acre island located in Del Norte County, less than a mile offshore, northwest of Crescent City. This refuge hosts one of the largest and most diverse colonies of breeding seabirds on the Pacific coast and provides a roost for approximately 20,000 Aleutian cackling geese during their migration.

The Draft Comprehensive Conservation Plan and Environmental Assessment (CCP/EA) were available for a 45-day public review and comment period, which was announced via several methods including news releases; updates to constituents; and in the Federal Register (74 FR 6301 February 6, 2009). The Draft CCP/EA identified and evaluated three alternatives for managing Humboldt Bay and Castle Rock Refuges for the next 15 years.

The Service received 35 comment letters on the Draft CCP/EA during the review period. The comments received were incorporated into the CCP, when possible, and responses are included in an appendix to the CCP. In the FONSI, Alternative C for both Humboldt Bay and Castle Rock NWRs was selected for implementation and is the basis for the CCP. The FONSI documents the decision of the Service based on the information and analysis contained in the EA.

Under the selected alternative, the Refuges would achieve an optimal balance of biological resource objectives and visitor services opportunities. Habitat management and associated biological resources monitoring would be improved. For Humboldt Bay NWR, environmental education, interpretation, wildlife observation, photography, and hunting programs would be improved or expanded. For Castle Rock NWR, a recommendation for wilderness designation, if approved by the Service's Director, would afford additional protections. The selected alternative best meets the Refuges' purposes, vision and goals; contributes to the Refuge System mission; addresses the significant issues and relevant mandates; and is consistent with principles of sound fish and wildlife management.

Public Availability of Documents

In addition to the methods in ADDRESSES, you can view or obtain documents at the following locations:

• Our Web site: http://www.fws.gov/humboldtbay/ccp.html.

• Public Libraries: during regular library hours, at the following libraries:

Library | Address | Phone number
Arcata Library | 500 7th Street, Arcata, CA 95521 | 707-822-5954
College of the Redwoods Library | 7351 Tompkins Hill Road, Arcata, CA 95501 | 707-476-426
Del Norte County Public Library | 190 Price Mall, Crescent City, CA 95331 | 707-464-9793
Fortuna Library | 753 14th Street, Fortuna, CA 95540 | 707 725-3460
Humboldt County Library | 1313 3rd Street, Eureka, CA 95501 | 707-269-1900
Humboldt State University Library | 1 Harpst Street, Arcata, CA 95521 | 707-826-3441
Conservation Library | USFWS-NCTC, 698 Conservation Way, Shepherdstown, WV 25443 | 304-876-7304

Dated: December 16, 2009.
Ren Lohoefener,
Regional Director, Pacific Southwest Region, Sacramento, California.

[FR Doc. E9-30563 Filed 12-28-09; 8:45 am]

BILLING CODE 4310-55-P